DEPARTMENT OF ENERGY

Federal Energy Regulatory Commission

[Docket No. EL03-180-000; Docket No. EL03-154-000; Docket No. EL02-114-000; Docket No. EL02-115-000; Docket No. EL02-113-000]

Enron Power Marketing, Inc. and Enron Energy Services, Inc.; Enron Power Marketing, Inc. and Enron Energy Services, Inc.; Portland General Electric Company; Enron Power Marketing, Inc.; El Paso Electric Company, Enron Power Marketing, Inc., and Enron Capital & Trade Resources Corp.; Notice Shortening Answer Period

July 13, 2007.

On July 13, 2007, Enron Power Marketing, Inc., Enron Energy Services, Inc. and Enron North America Corp. (collectively, “Enron”) filed a motion for an extension of time to file briefs on exceptions and briefs opposing exceptions to the Initial Decision issued June 21, 2007, in the above-referenced proceeding Enron Power Mktg., Inc., 119 FERC ¶ 63,013 (2007) (July 13 Motion). Among other things, Enron requests that the date for filing answers to its July 13 Motion be shortened in order to allow for an expedited schedule in this proceeding.

By this notice, the date for filing answers to Enron's July 13 Motion is shortened to and including July 16, 2007.

Kimberly D. Bose,
Secretary.

[FR Doc. E7-17309 Filed 8-30-07; 8:45 am]

BILLING CODE 6717-01-P